DEPARTMENT OF THE INTERIOR

National Park Service

[NPS-WASO-NRNHL-DTS#-29816; PPWOCRADI0, PCU00RP14.R50000]

National Register of Historic Places; Notification of Pending Nominations and Related Actions

AGENCY: National Park Service, Interior.

ACTION: Notice.

SUMMARY: The National Park Service is soliciting comments on the significance of properties nominated before February 8, 2020, for listing or related actions in the National Register of Historic Places.

DATES: Comments should be submitted by March 13, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 8, 2020. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

GEORGIA

Fulton County

English Avenue School, 627 English Ave. NW, Atlanta, SG100005101

LOUISIANA

East Baton Rouge Parish

Borden Dairy, 4743 Florida Blvd., Baton Rouge, SG100005100

Sabine Parish

Sabine High School, 850 Highland Ave., Many, SG100005099

MAINE

Androscoggin County

West Auburn School, 740 West Auburn Rd., Auburn, SG100005097

Hancock County

Surry Village School, 7 Toddy Pond Rd., Surry, SG100005098

Knox County

Dunn & Elliot Sail Loft, 54 Water St., Thomaston, SG100005096

MICHIGAN

Wayne County

Warren Motor Car Company Building, 1331 Holden St., Detroit, SG100005108

MONTANA

Deer Lodge County

Glenn's Dam Historic District, North Cable Rd., less than ¼ mi. north of northwest end of town, Anaconda vicinity, SG100005107

NEW JERSEY

Atlantic County

Liberty Hotel, 1519 Baltic Ave., Atlantic City, SG100005102

VIRGINIA

Albemarle County

Gardner House, 3137 Shiffletts Mill Rd., Crozet vicinity, SG100005103

Henrico County

Dabbs House, 3812 Nine Mile Rd., Henrico, SG100005104

Southampton County

Courtland Historic District, Roughly bounded by North and South Main, Rochelle, Linden, Aurora, and Bateman Sts., and Woodland Park Cir., Courtland, SG100005105

WISCONSIN

Milwaukee County

West Center-North 32nd Industrial Historic District, 2727, 2748, 2769 & 2784 North 32nd St.; 2758 North 33rd St.; and 3212 West Center St., Milwaukee, SG100005095

Additional documentation has been received for the following resources:

ARKANSAS

Benton County

Pinkston-Mays Store Building (Additional Documentation), (Benton County MRA), 211 Jackson St., Lowell, AD87002367

Ouachita County

Green Cemetery (Additional Documentation), West of Cty. Rd. 1, Stephens vicinity, AD16000653

Nomination submitted by Federal Preservation Officer:

The State Historic Preservation Officer reviewed the following nomination(s) and responded to the Federal Preservation Officer within 45 days of receipt of the nomination(s) and supports listing the properties in the National Register of Historic Places.

MONTANA

Jefferson County

Whitetail Airway Beacon, (Sentinels of the Airways: Montana's Airway Beacon System, 1934-1979 MPS), 16 miles north of Whitehall, Whitehall vicinity, MP100005094

(Authority: Section 60.13 of 36 CFR part 60)

Dated: February 10, 2020.
Julie H. Ernstein,
Supervisory Archeologist, National Register of Historic Places/National Historic Landmarks Program.

[FR Doc. 2020-03950 Filed 2-26-20; 8:45 am]

BILLING CODE 4312-52-P